AGENCY FOR INTERNATIONAL DEVELOPMENT

Notice of Malaria Vaccine Development Program Scientific Advisory Committee Re-Establishment

AGENCY: Agency for International Development (USAID).

ACTION: Notice of the advisory committee re-establishment.

SUMMARY: Pursuant to the Federal Advisory Committee Act, notice is hereby given of the re-establishment of the USAID Malaria Vaccine Development Program (MVDP) Scientific Advisory Committee (SAC) (previously the USAID Advisory Committee of the Malaria Vaccine Program). The USAID MVDP SAC is an external scientific committee that reviews and provides strategic advice to the USAID MVDP once or twice annually. The Administrator of USAID is re-establishing the committee for two years, effective on the date of filing of its renewed charter.

ADDRESSES: Written comments and recommendations can be sent to MVDPSACSecretariat@usaid.gov.

FOR FURTHER INFORMATION CONTACT: Susan Youll, Designated Federal Officer, Email: MVDPSACSecretariat@usaid.gov, or 202-712-0000 (Voice). Mailing address is: USAID, 1300 Pennsylvania Ave. NW, Washington, DC 20004.

Susan Youll,
USAID Designated Federal Officer for the MVDP SAC, Global Health Bureau, U.S. Agency for International Development.

[FR Doc. 2024-08129 Filed 4-16-24; 8:45 am]

BILLING CODE 6116-01-P